LEGAL SERVICES CORPORATION

Sunshine Act Meeting

DATE AND TIME: The Legal Services Corporation's Board of Directors will meet telephonically on August 31, 2012. The meeting will commence at 11 a.m., Eastern Daylight Time, and will continue until the conclusion of the Board's agenda.

LOCATION: F. William McCalpin Conference Room, Legal Services Corporation Headquarters, 3333 K Street NW., Washington DC 20007.

PUBLIC OBSERVATION: Members of the public who are unable to attend in person but wish to listen to the public proceedings may do so by following the telephone call-in directions provided below but are asked to keep their telephones muted to eliminate background noises. To avoid disrupting the meeting, please refrain from placing the call on hold. From time to time, the presiding Chair may solicit comments from the public.

CALL-IN DIRECTIONS FOR OPEN SESSIONS: • Call toll-free number: 1-866-451-4981;

• When prompted, enter the following numeric pass code: 5907707348;

• When connected to the call, please immediately “MUTE” your telephone.

STATUS OF MEETING: Open, except that, upon a vote of the Board of Directors, a portion of the meeting may be closed to the public to discuss a candidate for the position of Vice President for Grants Management. A verbatim written transcript will be made of the closed session of the Board of Directors meeting. The transcript of any portion of the closed session falling within the relevant provisions of the Government in the Sunshine Act, 5 U.S.C. 552b(c)(6), and the corresponding provision of the Legal Service's Corporation's implementing regulations, 45 CFR 1622.5(e), will not be available for public inspection. A copy of the General Counsel's Certification that in his opinion the closing is authorized by law will be available upon request.

Matters To Be Considered

Open Session

1. Approval of agenda

2. Approval of minutes of the Board's meeting of July 27, 2012

3. Consider and act on the Finance Committee's recommendation to the Board on the appropriations request for FY 2014 (Resolution 2012-XXX)

4. Consider and act on the Strategic Plan

5. Consider and act on a resolution abolishing the Office of Vice President for Programs and Performance and establishing the Office of Vice President for Grants Management (Resolution 2012-XXX)

6. Consider and act on whether to authorize an executive session of the Board

Closed Session

7. Discussion of candidate for the Office of Vice President for Grants Management

Open Session

8. Consider and act on a resolution on the appointment of a Vice President for Grants Management (Resolution 2012-XXX)

9. Public comment

10. Consider and act on other business

11. Consider and act on motion to adjourn the meeting

CONTACT PERSON FOR INFORMATION: Katherine Ward, Executive Assistant to the Vice President & General Counsel, at (202) 295-1500. Questions may be sent by electronic mail to FR_NOTICE_QUESTIONS@lsc.gov.

NON-CONFIDENTIAL MEETING MATERIALS: Non-confidential meeting materials will be made available in electronic format at least 24 hours in advance of the meeting on the LSC Web site, at http://www.lsc.gov/board-directors/meetings/board-meeting-notices/non-confidential-materials-be-considered-open-session.

ACCESSIBILITY: LSC complies with the American's with Disabilities Act and Section 504 of the 1973 Rehabilitation Act. Upon request, meeting notices and materials will be made available in alternative formats to accommodate individuals with disabilities. Individuals who need other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: August 24, 2012.
Victor M. Fortuno,
Vice President & General Counsel.

[FR Doc. 2012-21305 Filed 8-24-12; 4:15 pm]

BILLING CODE 7050-01-P